ENVIRONMENTAL PROTECTION AGENCY

[ER-FRL-6636-1]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167.

An explanation of the ratings assigned to draft environmental impact statements (EISs) was published in Federal Register dated April 12, 2002 (67 FR 17992).

Draft EISs

ERP No. D-FHW-J40175-UT Rating EC2, Reference Post (RP) 13 Interchange and City Road Project, Construction of New Interchange at RP 13 to I-15 and City Road in Washington City, Funding, Washington County, UT.

Summary: EPA expressed environmental concerns with water quality analysis and limiting the interchange analysis to only one build alternative. In addition, land use impacts were not quantified despite land use change expectation. EPA was pleased to see information on habitat fragmentation and impervious surface impacts documentation.

ERP No. D-JUS-K80043-CA Rating EC2, Juvenile Justice Campus (JJC) Construction and Operation of a 1,400 Bed and Related Functions Facility, Conditional Use Permit, Fresno County, CA.

Summary: EPA expressed environmental concerns regarding farmland protection and sole source aquifer issues.

ERP No. D-NPS-E65060-NC Rating LO, Carl Sandburg Home National Historic Site, General Management Plan, Implementation, Located in the Village of Flat Rock, Henderson County, NC.

Summary: EPA review did not identify any potential environmental impacts requiring substantive changes to the proposal.

Final EISs

ERP No. F-DOE-L08061-00 McNary-John Day Transmission Line Project, Construction, Operation and Maintenance of a 79-mile-long 500-Kilovolt-Transmission Line between McNary Substation and John Day Substation, Umatilla and Sherman Counites, OR and Benton and Klickitat Counties, WA.

Summary: No formal comment letter was sent to the preparing agency.

ERP No. F-EDA-B99003-CT Adriaen's Landing Project, Development from Columbus Boulevard south of the Founders Bridge and Riverfront Plaza, City of Hartford, CT.

Summary: EPA had no objections to the proposed project and encouraged continued efforts to coordinate with impacted communities around the project site and to add pollution controls to construction equipment.

ERP No. F-MMS-G02011-00 Gulf of Mexico Outer Continental Shelf Oil and Gas Lease Sales: 2003-2007, Starting in 2002 the Proposed Central Planning Area Sales 185, 190, 194, 198, and 201 and Western Planning Area Sales 187, 192, 196, and 200, Offshore Marine Environment, Coastal Counties and Parishes of TX, LA, AL and MS.

Summary: EPA had no further comments to offer. EPA has a lack of objections to the preferred alternative.

ERP No. FS-AFS-G65049-00 Vegetation Management in the Ozark/Quachita Mountains, Proposal to Clarify Direction for Conducting Project-Level Inventories for Biological Evaluations (BEs), Qzark, Quachita and St. Francis National Forests, AR and McCurtain and LeFLore Counties, OR.

Summary: EPA has no objection to the selection of the preferred alternative. EPA has no further comments to offer.

Dated: December 17, 2002.
Joseph C. Montgomery,
Director, NEPA Compliance Division, Office of Federal Activities.

[FR Doc. 02-32128 Filed 12-19-02; 8:45 am]

BILLING CODE 6560-50-P